DEPARTMENT OF COMMERCE

National Oceanic and Atmospheric Administration

15 CFR Part 922

Notice of Intent To Review Monitor National Marine Sanctuary Boundary

AGENCY: Office of National Marine Sanctuaries (ONMS), National Ocean Service (NOS), National Oceanic and Atmospheric Administration (NOAA), Department of Commerce (DOC).

ACTION: Notice of intent to review boundaries; intent to prepare environmental impact statement; hold scoping meetings.

SUMMARY: In accordance with section 304(e) of the National Marine Sanctuaries Act, as amended, (NMSA), the Office of National Marine Sanctuaries (ONMS) of the National Oceanic and Atmospheric Administration (NOAA) is reviewing the Monitor National Marine Sanctuary (MNMS or sanctuary) boundaries in order to evaluate and consider the benefits, need and impact of expanding the sanctuary's boundaries to include additional submerged maritime cultural and archaeologic resources as described in the February 2013 Monitor National Marine Sanctuary Final Management Plan and Environmental Assessment. This review process will be conducted per the National Environmental Policy Act (NEPA) and section 106 of the National Historic Preservation Act (NHPA).

DATES: Comments must be received by March 18, 2016. Public scoping meetings will be held on the following dates:

1. February 9, 2016

2. February 10, 2016

3. February 11, 2016

4. February 16, 2016

5. February 17, 2016

ADDRESS: Comments may be submitted by any of the following methods:

• Electronic Submission: Submit all electronic public comments via the Federal eRulemaking Portal. Go to http://www.regulations.gov/#!docketDetail;D=NOAA-NOS-2015-0165, click the “Comment Now!” icon, complete the required fields, and enter or attach your comments.

• Mail: David Alberg, Superintendent, Monitor National Marine Sanctuary, 100 Museum Drive, Newport News, VA 23606-3759.

Instructions: Comments sent by any other method, to any other address or individual, or received after the end of the comment period, may not be considered by NOAA. All comments received are a part of the public record and will generally be posted for public viewing on www.regulations.gov without change. All personal identifying information (for example, name, address, etc.), confidential business information, or otherwise sensitive information submitted voluntarily submitted by the commenter will be publicly accessible. NOAA will accept anonymous comments (enter “N/A” in the required fields if you wish to remain anonymous).

FOR FURTHER INFORMATION CONTACT: David Alberg, Superintendent, Monitor National Marine Sanctuary, (757) 591-7326.

SUPPLEMENTARY INFORMATION: Public scoping meetings will be held as detailed below:

(1) Raleigh, NC

Date: Tuesday, February 9, 2016, 6:00 p.m.-9:00 p.m.

Location: North Carolina Museum of History

Address: 5 East Edenton St., Raleigh, NC 27601

(2) Beaufort, NC

Date: Wednesday, February 10, 2016, 6:00 p.m.-9:00 p.m.

Location: North Carolina Maritime Museum

Address: 315 Front St., Beaufort, NC 28516

(3) Hatteras, NC

Date: Thursday, February 11, 2016, 6:00 p.m.-9:00 p.m.

Location: Graveyard of the Atlantic Museum

Address: 59200 Museum Dr., Hatteras, NC 27943

(4) Washington, DC

Date: Tuesday, February 16, 2016, 6:00 p.m.-9:00 p.m.

Location: United States Navy Memorial, Main Auditorium

Address: 701 Pennsylvania Ave. NW., Washington, DC 20004

(5) Nags Head, NC

Date: Wednesday, February 17, 2016, 6:00 p.m.-9:00 p.m.

Location: Jennette's Pier, Oceanview Hall

Address: 7223 S. Virginia Dare Trail, Nags Head, NC 27959

I. Background

MNMS was designated the nation's first national marine sanctuary in 1975. The site protects the wreck of the famed Civil War ironclad USS MONITOR, best known for its 1862 battle with the Confederate ironclad CSS VIRGINIA at Hampton Roads, VA. It is located approximately 16 miles southeast of Cape Hatteras, North Carolina, where it sank in a storm while under tow on December 31, 1862 with the loss of sixteen sailors. The vessel was the prototype for a class of U.S. Civil War ironclad, turreted warships that significantly altered both naval technology and marine architecture in the nineteenth century. The shipwreck and its contents comprise an irreplaceable historical record and represent a monument to the American naval tradition that the vessel itself helped to create.

The sanctuary consists of a column of water one mile in diameter extending from the seabed to the surface, surrounding the shipwreck. The highest priority management goal for the sanctuary is resource protection through comprehensive and coordinated conservation of the wreck and its surroundings. An important part of our nation's history, the USS MONITOR, the archaeological information at the site, the artifact collection, and the USS MONITOR's records are all part of the sanctuary's resources.

The waters of coastal North Carolina contain some of the most significant shipwrecks in the United States and represent an ideal location to study and preserve nationally significant historic wreck sites that include vessels and other artifacts dating back to the Age of North American Exploration, the Revolutionary War, the Civil War and World War II among others. The Expansion Working Group, as the basis for their recommended expansion models, has considered four broad thematic categories, which include: (1) The Colonial and Pre-Contact Period, (2) Commerce, (3) Conflict, and (4) Coastal Heritage. Veterans groups, historians, archaeologists, divers, the preservation community, the general public and the MNMS Sanctuary Advisory Council (SAC) have asked NOAA to consider expansion of the sanctuary as a means to protect and conserve these wrecks for current and future generations.

The topic of possible boundary expansion was a primary point of discussion during a series of scoping and public hearings held in 2008 as part of the sanctuary's management plan review process. In 2009, the MNMS SAC voted unanimously to recommend that sanctuary management establish an expansion working group to examine the implications of possible future expansion of the sanctuary's boundaries. The working group recommended NOAA formally evaluate and assess an expansion of existing boundaries to protect, manage, and interpret additional historic shipwrecks and other potential maritime heritage resources that are located or believed to be located in the adjacent waters of North Carolina in an area known as the “Graveyard of the Atlantic”. The sanctuary's final management plan (completed in 2013 and available at http://monitor.noaa.gov/management/2013-plan.html) included the following strategy: “Evaluate and consider the benefits, need, and impact of a future boundary expansion of MNMS to include additional submerged cultural resources.”

The expansion working group presented possible expansion models to the MNMS SAC and the public at the June 5, 2014 SAC meeting. Subsequently, a motion that the SAC consider the working group models passed on October 1, 2015 to submit them to NOAA for consideration as possible templates for expansion. A detailed narrative of each of the models as well as further information regarding the MNMS in general can be found at http://monitor.noaa.gov/management/expansion.html. Each model is briefly described below.

Model A: Includes isolated shipwreck sites. Boundaries would be restricted to select wreck sites and separate from each other. Under this model, some examples of sites which might be included are: USS YP-389, U-85, U-352, U-701, HMT Bedfordshire, Diamond Shoals Lightship, and E.M. Clark (this is a sample list only and may include additional wrecks). This model would include wrecks listed on the National Register of Historic Places, state craft, military gravesites and other individual wrecks of historic significance. Under the SAC's recommendation, State waters would not be included.

Model B: Includes a small area centered around the waters off Cape Hatteras. Boundaries could be established to include several wrecks and adjacent waters and culturally significant features in the landscape, such as Diamond Shoals (Cultural Landscapes are further defined here http://monitor.noaa.gov/pdfs/gota-final.pdf). Selected wrecks represent many historic themes, including the period of North American exploration, several conflicts and commerce. This model includes at least 65 known shipwrecks within Federal waters. The recommendations from the Working Group recommended that the inclusion of state waters be considered based on public input and further discussions with the State. If during the public scoping process it is determined to include state waters in the expanded area (denoted by the blue strip designating state waters in each model) many more shipwrecks would be located within the boundaries. The combined collection of resources in federal and state waters in this model are representative of a wide range of previously identified historical themes: Colonial and Pre-Contact, the History of Maritime Commerce, Conflict and War Along the Coast, and Coastal Heritage (fishing, lifesaving service, local watermen).

Model C: Includes a larger area also centered off Cape Hatteras that incorporates many historically significant wrecks in federal waters with the potential for include of state waters based upon future public input and discussions with the State as described in Model B above. This model includes sanctuary boundaries surrounding individual wreck sites, and further surrounded by a larger study area. If other historically significant wrecks are discovered within this study area in the future NOAA could consider adding these wrecks to the MNMS through a future public process. This area encompasses the majority of the most historically significant wrecks (as determined by the criteria of the National Historic Preservation Act) in the waters off Cape Hatteras (at least 75 known wrecks in Federal waters with at least 175 additional sites in adjacent state waters), several representative wrecks from multiple periods of history and cultural significance. The area in between known sites would be designed as a `study area' allowing for inclusion of sites as they are identified.

Model D: Model includes three specific areas, each exhibiting both a representative collection of wrecks in Federal and potentially State waters from many eras and vessel types, and the primary historically significant wrecks off of the Outer Banks. This model includes a collection of at least 100 known wrecks representing all identified thematic areas of cultural significance in the region. The recommendations from the Working Group recommended that the inclusion of state waters be considered based on public input and further discussions with the State as described in Models B and C above.

II. Need for Action

NOAA is initiating a review of MNMS boundaries to evaluate the benefits and effects of potential sanctuary expansion. This action is being taken to elevate and promote these resources and their history; to facilitate better protection and management of these nationally important resources under the National Marine Sanctuaries Act (NMSA); to better coordinate maritime heritage resource management with other current and potential users of these waters; to increase the scope of submerged archaeological research; to create educational opportunities for the public; and to potentially benefit local coastal communities through increased tourism and economic growth.

III. Process

The process for considering changes to MNMS is composed of four primary stages:

1. Scoping, including information collection and characterization, and the consideration of public comments;

2. Preparation and release of a draft environmental impact statement (DEIS) and Draft Management Plan (DMP) as required by Section 304(a) of the NMSA that identifies boundary expansion alternatives (including a no-action alternative under the National Environmental Policy Act (NEPA)), as well as a notice of proposed rulemaking (NPRM) to amend the sanctuary regulations to reflect any new boundary if proposed;

3. Public review and comment on the DEIS, DMP and NPRM; and

4. Preparation and release of a final environmental impact statement and final management plan, including a response to public comments, with a final rule if appropriate.

With this document, NOAA is opening a public comment period to:

1. Gather information and public comments from individuals, organizations, and government agencies on whether to expand sanctuary boundaries, suggestions for the extent and configuration of an expanded boundary, and the potential effects of a boundary expansion; and

2. Help determine the scope of issues to be addressed in the preparation of an environmental impact statement (EIS) pursuant to NEPA.

IV. Consultation Under the National Historic Preservation Act

This document confirms that NOAA will fulfill its responsibility under section 106 of the National Historic Preservation Act (NHPA, 16 U.S.C. 470) through the ongoing NEPA process, pursuant to 36 CFR 800.8(a), including the use of NEPA documents and public and stakeholder meetings to meet the section 106 requirements. The NHPA specifically applies to any agency undertaking that may affect historic properties. Pursuant to 36 CFR 800.16(l)(1), a “historic property means any prehistoric or historic district, site, building, structure, or object included in, or eligible for inclusion in, the National Register of Historic Places maintained by the Secretary of the Interior. The term includes artifacts, records, and remains that are related to and located within such properties. The term includes properties of traditional religious and cultural importance to an Indian tribe or Native Hawaiian organization and that meet the National Register criteria.”

In fulfilling its responsibility under the NHPA and NEPA, NOAA intends to identify consulting parties; identify historic properties and assess the effects of the undertaking on such properties; initiate formal consultation with the State Historic Preservation Officer, the Advisory Council of Historic Preservation, and other consulting parties; involve the public in accordance with NOAA's NEPA procedures; and in consultation with the identified consulting parties, develop alternatives and proposed measures that might avoid, minimize or mitigate any adverse effects on historic properties and describe them in any environmental assessment or draft environmental impact statement.

Authority: 16 U.S.C. 1431 et seq.; 16 U.S.C. 470.

Dated: December 22, 2015.
John Armor,
Acting Director, Office of National Marine Sanctuaries.

[FR Doc. 2015-33169 Filed 1-7-16; 8:45 am]

BILLING CODE 3510-NK-P